DEPARTMENT OF ENERGY

Federal Energy Regulatory Commission

Combined Notice of Filings #1

Take notice that the Commission received the following electric rate filings:

Docket Numbers: ER10-2042-053; ER10-1862-046; ER10-1865-019; ER10-1873-021; ER10-1875-021; ER10-1876-022; ER10-1878-021; ER10-1883-021; ER10-1884-021; ER10-1885-021; ER10-1888-021; ER10-1893-046; ER10-1934-046; ER10-1938-047; ER10-1941-021; ER10-1942-044; ER10-1947-022; ER10-2985-050; ER10-3049-051; ER11-4369-031; ER12-1987-019; ER12-2261-020; ER12-2645-014; ER13-1407-016; ER16-2218-032; ER17-696-032; ER19-1127-011; ER20-1699-009; ER23-944-009; ER24-15-001; ER10-3051-051.

Applicants: Champion Energy, LLC, Nova Power, LLC, Calpine Community Energy, LLC, Johanna Energy Center, LLC, Calpine King City Cogen, LLC, Calpine Energy Solutions, LLC, North American Power Business, LLC, CCFC Sutter Energy, LLC, Pastoria Energy Facility L.L.C., Russell City Energy Company, LLC, O.L.S. Energy-Agnews, Inc., North American Power and Gas, LLC, Champion Energy Services, LLC, Champion Energy Marketing LLC, Otay Mesa Energy Center, LLC, Calpine Construction Finance Co., L.P., Calpine Gilroy Cogen, L.P., Calpine Power America—CA, LLC, CES Marketing IX, LLC, CES Marketing X, LLC, Creed Energy Center, LLC, Delta Energy Center, LLC, Geysers Power Company, LLC, Gilroy Energy Center, LLC, Goose Haven Energy Center, LLC, Los Esteros Critical Energy Facility, LLC, Los Medanos Energy Center LLC, Metcalf Energy Center, LLC, South Point Energy Center, LLC, Power Contract Financing, L.L.C., Calpine Energy Services, L.P.

Description: Notice of Change in Status of Calpine Energy Services, L.P., et al.

Filed Date: 7/31/24.

Accession Number: 20240731-5300.

Comment Date: 5 p.m. ET 8/21/24.

Docket Numbers: ER15-2529-001; ER11-1966-001; ER11-2312-001; ER11-4041-002; ER11-4533-002; ER11-4543-001; ER11-4544-001; ER12-2071-003; ER12-2312-003; ER13-513-001; ER13-1440-002; ER15-2527-001; ER15-2528-001; ER15-2530-001.

Applicants: Censtar Operating Company, LLC, Spark Energy, L.P., Oasis Power, LLC, Electricity MASS, LLC, Electricity NH, LLC, Perigee Energy, LLC, Verde Energy USA New York, LLC, Respond Power, LLC, Major Energy Electric Services, LLC, HIKO Energy, LLC, Verde Energy USA Trading, LLC, Electricity Maine, LLC, Verde Energy USA Inc., Censtar Energy Corp.

Description: Notice of Non-Material Change in Status of Censtar Energy Corp. et al.

Filed Date: 7/31/24.

Accession Number: 20240731-5296.

Comment Date: 5 p.m. ET 8/21/24.

Docket Numbers: ER17-481-006.

Applicants: CPV Maryland, LLC.

Description: Compliance filing: Informational Filing Regarding Planned Transfer to be effective N/A.

Filed Date: 8/7/24.

Accession Number: 20240807-5058.

Comment Date: 5 p.m. ET 8/28/24.

Docket Numbers: ER19-1411-004; ER12-1436-020; ER15-1447-008; ER18-280-009; ER18-533-007; ER18-534-007; ER18-535-007; ER18-536-007; ER18-537-007; ER18-538-008; ER21-573-005; ER21-574-005; ER21-575-005; ER21-2317-001; ER22-48-005.

Applicants: Gridflex Generation, LLC, Richland-Stryker Generation LLC, Lanyard Power Marketing, LLC, Dickerson Power, LLC, Chalk Point Power, LLC, Sidney, LLC, Monument Generating Station, LLC, O.H. Hutchings CT, LLC, Yankee Street, LLC, Montpelier Generating Station, LLC, Tait Electric Generating Station, LLC, Lee County Generating Station, LLC, Mid-Georgia Cogen L.P., Eagle Point Power Generation LLC, GenOn Bowline, LLC.

Description: Notice of Non-Material Change in Status of GenOn Bowline, LLC, et al.

Filed Date: 7/31/24.

Accession Number: 20240731-5297.

Comment Date: 5 p.m. ET 8/21/24.

Docket Numbers: ER22-2784-005; ER14-41-012; ER14-42-012; ER16-498-011; ER16-499-011; ER16-500-011; ER16-2277-005; ER16-2289-006; ER18-1174-006; ER20-2448-007; ER21-133-007; ER21-736-008; ER21-1962-008; ER21-2634-006.

Applicants: Solar Star Lost Hills, LLC, Mulberry BESS LLC, RE Slate 1 LLC, HDSI, LLC, American Kings Solar, LLC, Imperial Valley Solar 2, LLC, Golden Fields Solar I, LLC, Solar Star California XLI, LLC, RE Mustang 4 LLC, RE Mustang 3 LLC, RE Mustang LLC, RE Rosamond Two LLC, RE Rosamond One LLC, MN8 Energy Marketing LLC.

Description: Notice of Non-Material Change in Status of MN8 Energy Marketing LLC, et al.

Filed Date: 7/31/24.

Accession Number: 20240731-5298.

Comment Date: 5 p.m. ET 8/21/24.

Docket Numbers: ER23-2091-002.

Applicants: Goleta Energy Storage, LLC.

Description: Notice of Change in Status of Goleta Energy Storage, LLC.

Filed Date: 7/31/24.

Accession Number: 20240731-5299.

Comment Date: 5 p.m. ET 8/21/24.

Docket Numbers: ER24-2103-001; ER18-2327-008; ER19-2395-001; ER19-2527-004; ER20-902-004; ER20-1593-006; ER20-1594-005; ER20-1596-006; ER20-1597-006; ER20-1599-006; ER20-1620-005; ER21-2767-003; ER22-414-005; ER22-1518-003; ER23-495-006; ER23-1503-001; ER23-2346-003; ER23-2439-001; ER23-2450-002; ER23-2451-002; ER23-2511-002; ER24-1732-001.

Applicants: Sol Madison Solar, LLC, Hardy Hills Solar Energy LLC, Great Cove Solar II LLC, Great Cove Solar LLC, Cavalier Solar A2, LLC, Oak Ridge Solar, LLC, Cavalier Solar A, LLC, AES CE Solutions, LLC, Laurel Mountain BESS, LLC, AES Marketing and Trading, LLC, Skipjack Solar Center, LLC, AES Solutions Management, LLC, Richmond Spider Solar, LLC, Pleinmont Solar 2, LLC, Pleinmont Solar 1, LLC, Highlander IA, LLC, Highlander Solar Energy Station 1, LLC, sPower Energy Marketing, Prevailing Wind Park, LLC, AES Integrated Energy, LLC, Riverhead Solar Farm, LLC, Keydet Solar Center, LLC.

Description: Notice of Change in Status of Keydet Solar Center, LLC, et al.

Filed Date: 7/31/24.

Accession Number: 20240731-5301.

Comment Date: 5 p.m. ET 8/21/24.

Docket Numbers: ER24-2353-001.

Applicants: American Electric Power Service Corporation, PJM Interconnection, L.L.C.

Description: Tariff Amendment: American Electric Power Service Corporation submits tariff filing per § 35.17(b): Amendment to Attachment 1 of ILDSA SA No. 1252 to be effective 11/1/2024.

Filed Date: 8/7/24.

Accession Number: 20240807-5049.

Comment Date: 5 p.m. ET 8/28/24.

Docket Numbers: ER24-2709-000.

Applicants: Idaho Power Company.

Description: Section 205(d) Rate Filing: RS 178—Crimson Orchard—Procurement Agreement to be effective 7/22/2024.

Filed Date: 8/7/24.

Accession Number: 20240807-5000.

Comment Date: 5 p.m. ET 8/28/24.

Docket Numbers: ER24-2710-000.

Applicants: Midcontinent Independent System Operator, Inc.

Description: Section 205(d) Rate Filing: 2024-08-07_SA 4319 NSP-Pipestone Solar GIA (J1620) to be effective 7/25/2024.

Filed Date: 8/7/24.

Accession Number: 20240807-5027.

Comment Date: 5 p.m. ET 8/28/24.

Docket Numbers: ER24-2711-000.

Applicants: Midcontinent Independent System Operator, Inc.

Description: Section 205(d) Rate Filing: 2024-08-07_SA 4323 Ameren Missouri-Firebrick Wind FSA (J1026) to be effective 10/7/2024.

Filed Date: 8/7/24.

Accession Number: 20240807-5036.

Comment Date: 5 p.m. ET 8/28/24.

Docket Numbers: ER24-2712-000.

Applicants: International Transmission Company, Midcontinent Independent System Operator, Inc.

Description: Section 205(d) Rate Filing: International Transmission Company submits tariff filing per § 35.13(a)(2)(iii): 2024-08-07_SA 4316 ITCTransmission-DTE Electric E&P (J2490) to be effective 7/22/2024.

Filed Date: 8/7/24.

Accession Number: 20240807-5038.

Comment Date: 5 p.m. ET 8/28/24.

Docket Numbers: ER24-2713-000.

Applicants: Mid-Atlantic Interstate Transmission, LLC,PJM Interconnection, L.L.C.

Description: Section 205(d) Rate Filing: Mid-Atlantic Interstate Transmission, LLC submits tariff filing per § 35.13(a)(2)(iii): MAIT submits one Construction Agreement SA No. 6945 to be effective 10/7/2024.

Filed Date: 8/7/24.

Accession Number: 20240807-5043.

Comment Date: 5 p.m. ET 8/28/24.

Docket Numbers: ER24-2714-000.

Applicants: Duke Energy Carolinas, LLC.

Description: Section 205(d) Rate Filing: DEC-NCMPA1 Revisions to SA 212 to be effective 10/1/2024.

Filed Date: 8/7/24.

Accession Number: 20240807-5107.

Comment Date: 5 p.m. ET 8/28/24.

The filings are accessible in the Commission's eLibrary system (https://elibrary.ferc.gov/idmws/search/fercgensearch.asp) by querying the docket number.

Any person desiring to intervene, to protest, or to answer a complaint in any of the above proceedings must file in accordance with Rule 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 7, 2024.
Debbie-Anne A. Reese,
Acting Secretary.

[FR Doc. 2024-18055 Filed 8-13-24; 8:45 am]

BILLING CODE 6717-01-P